DEPARTMENT OF COMMERCE

National Oceanic and Atmospheric Administration

[Docket No. 150224177-5177-01]

RIN 0648-XD798

Availability of Draft NOAA Education Strategic Plan

AGENCY: National Oceanic and Atmospheric Administration (NOAA), Department of Commerce.

ACTION: Notice and request for comments.

SUMMARY: The National Oceanic and Atmospheric Administration (NOAA) publishes this notice to solicit comments on the draft NOAA Education Strategic Plan (Plan). NOAA received broad legislative authority from Congress through the America COMPETES Act (2007, 2010) to conduct, develop, support, promote, and coordinate formal and informal education activities at all levels to enhance public awareness and understanding of ocean, coastal, Great Lakes, and atmospheric science and stewardship by the general public and other coastal stakeholders, including underrepresented groups in ocean and atmospheric science and policy careers. The revision of the Plan establishes the goals for NOAA education programs for the next twenty years with revisions to the Plan every five years. NOAA is seeking broad public review of the NOAA Education Strategic Plan, and encourages all stakeholders and users to review the Plan and provide comments. All comments received will be reviewed and considered in the final drafting of the NOAA Education Strategic Plan.

DATES: Public comments on this document must be received on or before April 10, 2015.

ADDRESSES: The draft Plan will be available on the following Web site: http://www.oesd.noaa.gov/leadership/edcouncil/education_plan.html.

You may submit comments on this document, following the format guidance below, by any of the following methods:

• Electronic Submissions: Comments may be submitted via email to Education.Plan@noaa.gov. Include the identifier, “Education Plan Public Comment” in the subject line.

• Mail: Marissa Jones, NOAA Office of Education, U.S. Department of Commerce, 1401 Constitution Avenue NW., Washington, DC 20230. Include the identifier, “Education Plan Public Comment,” on the envelope.

FOR FURTHER INFORMATION CONTACT: Marissa Jones, Education Specialist, NOAA Office of Education, (202) 482-4592Marissa.Jones@noaa.gov.

SUPPLEMENTARY INFORMATION: NOAA's Education Council is soliciting general comments on the NOAA Education Strategic Plan, which describes how NOAA will execute programs and activities to achieve cohesive and strategic education outcomes. The Plan focuses on conducting, developing, supporting, promoting, and coordinating education activities to enhance awareness and understanding of mission-related sciences.

For over 200 years, NOAA has imparted scientific knowledge of the Earth's natural systems to benefit society and support the agency's mission. During this time, education was guided by the vision of leadership, the findings of researchers, the mandates of legislation for programs within NOAA, and to respond to the needs of society.

In 2007, Congress officially recognized the role of education in NOAA with the passage of the America COMPETES Act (Pub. L. 110-69). This legislation states:

“The Administrator, appropriate National Oceanic and Atmospheric Administration programs, ocean atmospheric science and education experts, and interested members of the public shall develop a science education plan setting forth education goals and strategies for the Administration, as well as programmatic actions to carry out such goals and priorities over the next 20 years, and evaluate and update such plan every 5 years.”

NOAA is revising its Education Strategic Plan as specified in the America COMPETES Act. Based on NOAA's mission, strengths, and the future needs of our society, the draft plan includes five education goals:

Goal 1—Science-Informed Society: An informed society has access to, interest in, and understanding of NOAA-related sciences and their implications for current and future events.

Goal 2—Conservation & Stewardship: Individuals and communities are actively involved in stewardship behaviors and decisions that conserve, restore, and protect natural and cultural resources related to NOAA's mission.

Goal 3—Safety and Preparedness: Individuals and communities are informed and actively involved in decisions and actions that improve preparedness, response, and resilience to challenges and impacts of hazardous weather, changes in climate, and other environmental threats monitored by NOAA.

Goal 4—Future Workforce: A diverse and highly-skilled future workforce pursues careers in disciplines that support NOAA's mission.

Goal 5—Organizational Excellence: NOAA functions in a unified manner to support, plan, and deliver effective educational programs and partnerships that advance NOAA's mission.

NOAA welcomes all comments on the draft Plan, any inconsistencies perceived within the Plan, and any omissions of important topics or issues. This draft Plan is being issued for comment only and is not intended for interim use. For any shortcoming noted within the draft Plan, please propose specific remedies. Suggested changes will be incorporated where appropriate, and a final Plan will be posted on the NOAA Education Council Web site.

Please follow this format guidance for preparing and submitting comments. Using the format guidance will facilitate the processing of comments and assure that all comments are appropriately considered. Overview comments should be provided first and should be numbered. Comments that are specific to particular pages, paragraphs, or lines of the section should identify the page and line numbers to which they apply. Please number each page of your comments.

Dated: March 17, 2015.
Louisa Koch,
NOAA Director of Education.

[FR Doc. 2015-06419 Filed 3-19-15; 8:45 am]

BILLING CODE 3510-22-P